DEPARTMENT OF HOMELAND SECURITY

Coast Guard

[Docket No. USCG-2020-0095]

Merchant Mariner Medical Advisory Committee; April 2020 Teleconference

AGENCY: U.S. Coast Guard, Department of Homeland Security.

ACTION: Notice of Federal Advisory Committee teleconference meeting.

SUMMARY: The Merchant Mariner Medical Advisory Committee (Committee) and its working groups will meet via teleconference to discuss matters relating to medical certification determinations for issuance of licenses, certificates of registry, and merchant mariners' documents, medical standards and guidelines for the physical qualifications of operators of commercial vessels, medical examiner education, and medical research.

DATES: Meeting: The Merchant Mariner Medical Advisory Committee and its working groups will meet by teleconference on Wednesday, April 29, 2020, from 8:00 a.m. until 11:00 a.m. The teleconference may adjourn early if the Committee has completed its business.

Comments and supporting documentation: To ensure your comments are received by Committee members before the teleconference, submit your written comments no later than April 22, 2020.

ADDRESSES: To join the teleconference or to request special accommodations, contact the individual listed in the FOR FURTHER INFORMATION CONTACT section no later than 1 p.m. on April 22, 2020, to obtain the needed information. The number of teleconferences lines is limited and will be available on a first-come, first-served basis.

Instructions: You are free to submit comments at any time, including orally at the teleconference as time permits, but if you want Committee members to review your comment before the teleconference, please submit your comments no later than April 22, 2020. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2020-0095]. Comments received will be posted without alteration at http://www.regulations.gov, including any personal information provided. For more about privacy and submissions in response to this document, see DHS's eRulemaking System of Records notice (85 FR 14226, March 11, 2020).

If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Ms. Megan Johns Henry, Alternate Designated Federal Officer of the Merchant Mariner Medical Advisory Committee, 2703 Martin Luther King Jr. Ave SE, Stop 7509, Washington, DC 20593-7509, telephone 202-372-1255, fax 202-372-4908 or megan.c.johns@uscg.mil.

SUPPLEMENTARY INFORMATION: Notice of this meeting is in compliance with the Federal Advisory Committee Act, 5 U.S.C. Appendix.

The Merchant Mariner Medical Advisory Committee Meeting is authorized by U.S. Code, Title 46, section 7115. The Committee advises the Secretary of the Department of Homeland Security on matters related to (a) medical certification determinations for issuance of licenses, certificates of registry, and merchant mariners' documents; (b) medical standards and guidelines for the physical qualifications of operators of commercial vessels; (c) medical examiner education; and (d) medical research.

Agenda

The agenda for the April 29, 2020, teleconference is as follows:

(1) Introduction.

(2) Designated Federal Officer remarks.

(3) Remarks from the Committee Chairman.

(4) Remarks from U.S. Coast Guard Leadership.

(5) Roll call of Committee members and determination of a quorum.

(6) The Committee will address the following task statements which are available for viewing at https://homeport.uscg.mil/missions/ports-and-waterways/safety-advisory-committees/merpac;

(a) Task Statement 19-29, Review of CG Forms CG-719K and CG-719K/E

(7) Report on Status of Working Groups, Determination on Intercessional Meetings and Discussion of Working Group recommendations. The Committee will review the information presented on each issue, deliberate on any recommendations presented by the Working Groups, approve/formulate recommendations and close any completed tasks. Official action on these recommendations may be taken:

(a) Task Statement 17-26, Regulatory Reform;

(b) Task Statement 18-27, Mariner Mental Health;

(c) Task Statement 18-28, External Stakeholder Communication; and

(d) Task Statement 19-29, Review of CG Forms CG-719K and CG-719K/E;

(8) Public comment period.

(9) Closing remarks/plans for next meeting.

(10) Adjournment of meeting.

A copy of all meeting documentation will be available at https://homeport.uscg.mil/missions/ports-and-waterways/safety-advisory-committees/medmac no later than April 22, 2020. Alternatively, you may contact Ms. Megan Johns Henry as noted in the FOR FURTHER INFORMATION section above.

During the April 29, 2020 teleconference, a public comment period will be held from approximately 10:00-10:15 a.m. Public comments will be limited to two minutes per speaker. Please note that the public comment periods will end following the last call for comments.

Please contact the individual listed in the FOR FURTHER INFORMATION CONTACT section, to register as a speaker.

Dated: March 31, 2020.
Jeffrey G. Lantz,
Director of Commercial Regulations and Standards.

[FR Doc. 2020-07041 Filed 4-2-20; 8:45 am]

BILLING CODE 9110-04-P